DEPARTMENT OF THE INTERIOR

Bureau of Land Management

[ID-310-5420-FR-D046, DK-G08-0004; IDI-35568]

Notice of Application for Recordable Disclaimer of Interest in Lands, Bingham County, ID

AGENCY: Bureau of Land Management, Interior.

ACTION: Notice.

SUMMARY: An application has been filed by Randy Lynne Jackson, personal representative of the estate of Donald F. Jackson, deceased, for a Recordable Disclaimer of Interest from the United States for land in Bingham County, Idaho. This notice is intended to inform the public of the pending application.

DATES: Comments or protests to this action should be received by March 23, 2009.

ADDRESSES: Comments must be filed with Tom Dyer, State Director, Bureau of Land Management, Idaho State Office, 1387 S. Vinnell Way, Boise, ID 83709.

FOR FURTHER INFORMATION CONTACT: Laura Summers, Realty Specialist, at the above address or by phone at (208) 373-3866 or Jan Parmenter, Realty Specialist at BLM, Upper Snake Field Office, 1405 Hollipark Drive, Idaho Falls, Idaho 83401, or by phone at (208) 524-7562.

SUPPLEMENTARY INFORMATION: Pursuant to Section 315 of the Federal Land Policy and Management Act of 1976 (43 U.S.C. 1745), Randy Lynne Jackson, personal representative of the estate of Donald F. Jackson, an adjacent landowner, has filed an application for a Disclaimer of Interest for lands described as follows: A parcel of land comprising 118.27 acres, more or less, in lots 1 and 2 of section 6, T. 4 S., R. 34 E., Boise Meridian, Bingham County, Idaho, more particularly described as follows:

Commencing at the northwest corner of said section 6; thence along the north line of said section 6, S89°16′44″ E 3507.82 feet to a point of intersection with the meander line surveyed in 1925 by H.G. Bardsley, Cadastral Engineer, during performance of the U.S.G.L.O. Dependent Resurvey of said Township 4 South, Range 34 East, Boise Meridian, said point is marked by a 1925 G.L.O. Brass Cap Monument as shown on the recorded and accepted Plat, the TRUE POINT OF BEGINNING; thence southwesterly along said 1925 meander line by the following courses (these courses are rotated to the basis of bearings stated above, and have been translated from chains to feet as requested by I.D.L.): thence S19°12′49″ W 133.32 feet; thence S30°25′16″ W 660.00 feet; thence S50°00′14″ W 517.37 feet; thence S51°56′03″ W 142.69 feet; thence S59°25′16″ W 297.00 feet; thence S86°25′16″ W 198.00 feet; thence N82°34′44″ W 198.00 feet; thence S54°25′16″ W 224.40 feet; thence S75°25′16″ W 330.00 feet; thence S88°25′16″ W 191.65 feet to a point of intersection with the westerly boundary of the land described in Quitclaim Deed instrument numbers 490751 and 490752, and depicted graphically on a Record of Survey on file in the Bingham County Courthouse, Blackfoot, Idaho; thence along said westerly boundary S00°42′23″ W 2154.37 feet to a point on the ordinary high water line of the right bank of the Snake River, said point marked by a 1/2”x24” iron pin with red plastic cap marked PLS 9168; thence along said ordinary high water line S87°01′43″ E 252.50 feet; thence N74°48′08″ E 313.19 feet; thence N67°48′08″ E 243.19 feet; thence N63°21′08″ E 250.02 feet; thence N54°28′37″ E 363.79 feet; thence N41°51′36″ E 150.62 feet; thence N50°54′43″ E 611.67 feet; thence N28°19′06″ E 138.83 feet; thence N46°39′55″ E 336.07 feet; thence N32°16′59″ E 292.13 feet; thence N24°27′36″ E 188.15 feet; thence N19°03′54″ E 241.69 feet; thence N00°00′00″ E 79.90 feet; thence N13°00′02″ E 175.78 feet; thence N06°36′36″ E 357.80 feet; thence N06°27′46″ W 727.79 feet; thence N12°12′18″ W 271.35 feet to a point of intersection with the north line of said section 6; thence along said north line N74°52′56″ W 189.82 feet to the TRUE POINT OF BEGINNING.

Having relied on the report provided by experts of the Branch of Cadastral Survey and the findings therein, dated April 14, 2006, the following synopsis of key findings is provided in support of the application for disclaimer. The records for this area show an active flood plain adjoining the patented original government lots. Various channels have relicted and others expanded but there is no hard evidence of an avulsion resulting in ownership from the other side (south side) of today's river location. Because of the active channels, erratic survey record, and the economic considerations for omitted lands, as laid out in the Wackerli Decision (Burt A. Wackerli, 73 I.D. 280 (1966)), the Branch of Cadastral Survey has determined and shown this land as accretions attaching to patented lands to the north in the Dependent Resurvey, Corrective Dependent Resurvey, Subdivision, and Survey, T.4 S., R. 34 E., B.M., filed November 17, 2006, in the Public Room at the BLM State Office in Boise, Idaho. Therefore, it is the opinion of this office that the Federal Government has no interest in this 118.27 acre parcel.

Anyone who wishes to present comments or objections in connection with the pending application and proposed disclaimer may do so by writing to Tom Dyer, State Director, at the above address. Comments, including names and street addresses of commentors will be available for public review at the BLM-Idaho State Office (see address above), during regular business hours, Monday through Friday, except holidays. Before including your address, phone number, e-mail address, or other personal identifying information in your comment, you should be aware that your entire comment—including your personal identifying information—may be made publicly available at any time. While you can ask us in your comment to withhold your personal identifying information from public review, we cannot guarantee that we will be able to do so.

If no valid objection is received, a Disclaimer of Interest may be approved stating that the United States does not have a valid interest in these lands.

Jerry L. Taylor,
Chief, Branch of Lands, Minerals and Water Rights, Resource Services Division.

[FR Doc. E8-30484 Filed 12-19-08; 8:45 am]

BILLING CODE 4310-GG-P